DEPARTMENT OF HOMELAND SECURITY

Coast Guard

[USCG-2003-16711]

Cooperative Research and Development Agreements

AGENCY: Coast Guard, DHS.

ACTION: Notice of intent.

SUMMARY: The Coast Guard announces its intent to enter into a Cooperative Research and Development Agreement and seeks inquiries and proposals from potential partners. The goal of this agreement will be further development of innovative fire suppression/protection systems for use on marine vessels and Coast Guard approval procedures for such systems.

DATES: Preliminary inquiries must be received by August 4, 2005. The deadline for receiving proposals is August 24, 2005.

ADDRESSES: Inquiries and proposals from potential partners must be sent to David Beene, Fire and Safety Technologies Project Manager, U.S. Coast Guard Research & Development Center, 1082 Shennecossett Road, Groton, CT 06340 (email: dbeene@rdc.uscg.mil).

The general public can comment on this notice or on the Coast Guard's Cooperative Research and Development Agreement (CRADA) procedures. These comments will be docketed in the Docket Management System (DMS). Include the docket number (USCG-2003-16711) of this notice, and submit it using the DMS Web site (http://dms.dot.gov) or the Federal eRulemaking Portal (http://www.regulations.gov). You can also fax comments to 202-493-2251 or mail or hand-deliver them to: Docket Management Facility, U.S. Department of Transportation, 400 Seventh Street SW., Washington, DC 20590-0001.

FOR FURTHER INFORMATION CONTACT: If you have questions on this notice or the proposed CRADA, contact David Beene, Fire and Safety Technologies Project Manager, U.S. Coast Guard Research & Development Center, 1082 Shennecossett Road, Groton, CT 06340, telephone (860) 441-2759, email: dbeene@rdc.uscg.mil. If you have questions on viewing or submitting material to the docket, call Andrea M. Jenkins, Program Manager, Docket Operations, telephone (202) 366-0271.

SUPPLEMENTARY INFORMATION:

Cooperative Research and Development Agreements

Cooperative Research and Development Agreements, or CRADAs, are authorized by the Federal Technology Transfer Act of 1986 (Pub. L. 99-502, codified at 15 U.S.C. 3710a). A CRADA promotes the transfer of technology to the private sector for commercial use as well as specified research or development efforts that are consistent with the mission of the Federal parties to the CRADA. The Federal party or parties agree with one or more non-Federal parties to share research resources, but the Federal party does not contribute funding. The Department of Homeland Security (DHS), as an executive agency under 5 U.S.C. 105, is a Federal agency for purposes of 15 U.S.C. 3710a and may enter into a CRADA. DHS delegated its authority to the Commandant of the Coast Guard (see DHS Delegation No. 0160.1, section 2(B)(34)), and the Commandant has delegated his authority to the Coast Guard Research and Development Center.

Goal of Proposed CRADA

Under the proposed agreement, the Coast Guard's Research & Development Center (RDC) would collaborate with industry. Together, the RDC and its CRADA partner(s) will examine fire suppression/protection systems for protecting marine vessels. Through joint research, they will also provide scientific information to support development of test protocols for use on merchant vessels.

The RDC, with its CRADA partner(s), will create a structured and collaborative test environment to advance concepts and technologies for fire suppression/protection systems. Gaseous agent systems currently used on vessels are either banned or being phased out by the International Maritime Organization and/or the Environmental Protection Agency. The RDC will provide test data on new systems to the Coast Guard Marine Safety, Security, and Environmental Protection directorate for use in developing approval procedures for such systems to be used on merchant vessels.

Party Contributions

We anticipate that the Coast Guard's contributions under the proposed CRADA will include:

(1) A full-scale test chamber that meets the International Maritime Organizations test protocol requirements to test and demonstrate CRADA products;

(2) Personnel and equipment to manage and operate the test chamber;

(3) An instrumentation system to record real time test data for future analysis; and

(4) Test data to/for CRADA partners for their own analysis.

We anticipate that industry's contributions under the proposed CRADA will include:

(1) Proposed fire suppression/protection systems for study;

(2) A proposed test plan, for comment by the RDC, for each fire suppression/protection system to be tested;

(3) Provision and installation of agent distribution systems and products. This may include but not be limited to piping, nozzles, manifolds, and cylinder connections to allow testing called for in the test plan;

(4) The disassembly and removal of all items installed by CRADA partner(s);

(5) The repair or replacement of any government instrumentation or equipment that is damaged or destroyed as a result of these tests; and

(6) The provision to the Coast Guard of one copy of the draft report of test results for review and of two copies of the final report upon its completion.

Selection Criteria

The Coast Guard reserves the right to select for CRADA partners all, some, or none of the proposals in response to this notice. The Coast Guard will provide no funding for reimbursement of proposal development costs. Proposals (or any other material) submitted in response to this notice will not be returned. Proposals submitted are expected to be unclassified and have no more than 4 single-sided pages (excluding cover page and resumes). The Coast Guard will select proposals at its sole discretion on the basis of:

(1) How well they communicate an understanding of, and ability to meet, the proposed CRADA's goal; and

(2) How well they address the following criteria:

(a) Technical capability to support the non-Federal party contributions described;

(b) Resources available for supporting the non-Federal party contributions described; and

(c) Technical expertise/understanding of marine fire suppression/protection needs and industry best practices in fire suppression/protection technologies.

This is a technology transfer/development effort. So far, the Coast Guard has no forecast to procure the technology. Proposals should clearly discuss how the concepts and proposed technologies, e.g., for fire suppression/protection systems to replace current halon and carbon dioxide systems could improve upon systems currently being proposed by and reviewed by the International Maritime Organization.

Special consideration will be given to small business firms/consortia, and preference will be given to business units located in the United States which agree that products embodying inventions made under the CRADA or produced through the use of such inventions will be manufactured substantially in the United States.

Dated: June 27, 2005.
F.A. Dutch,
Capt USCG, Commanding Officer, R&D Center.

[FR Doc. 05-13961 Filed 7-14-05; 8:45 am]

BILLING CODE 4910-15-P